PRIVACY AND CIVIL LIBERTIES OVERSIGHT BOARD

Watch List Redress Request for Public Comment

AGENCY: Privacy and Civil Liberties Oversight Board, The White House.

ACTION: Request for public comment.

SUMMARY: The Privacy and Civil Liberties Oversight Board, established by the Intelligence Reform and Terrorism Prevention Act of 2004 (Pub. L. 108-458, December 17, 2004), advises the President and other senior executive branch officials to ensure that concerns about privacy and civil liberties are appropriately considered in the implementation of laws, regulations, and executive branch policies related to efforts to protect the Nation against terrorism. This includes advising on whether adequate guidelines, supervision, and oversight exist to protect the important legal rights of all Americans.

Processes currently exist to redress errors and ameliorate false positives associated with the use of watch list data for aviation and other security screening purposes. Efforts to address, enhance, conform, and potentially streamline these procedures are ongoing throughout the Federal Government, and the Board is assisting relevant executive branch departments and agencies in those efforts. The Board seeks any comments, suggestions or other information from members of the public who have knowledge on this subject. Comments may be forwarded via the Board's Web site at http://www.PrivacyBoard.gov. While there is no specific deadline for the submission, the Board is interested in receiving public comments soon. The Board is unable to respond to individual comments and cannot assist individual redress requests. Information gathered will be used solely to assist the Board in understanding the effects of policy and program operations on Americans' civil liberties.

DATES: While there is no specific deadline for the submission, the Board is interested in receiving public comments soon.

ADDRESSES: Comments can be e-mailed to: PrivacyBoard@who.eop.gov.

FOR FURTHER INFORMATION CONTACT: Seth Wood, 202-456-1240.

SUPPLEMENTARY INFORMATION: Homeland Security Presidential Directive 6, dated September 16, 2003, requires that the Attorney General establish an organization to consolidate the Federal Government's approach to terrorism screening and provide for the appropriate and lawful use of terrorist information in screening processes. Pursuant to this directive, the Secretaries of State, Defense, the Treasury, and Homeland Security along with the Attorney General and the Director of Central Intelligence established by a memorandum of understanding the Terrorist Screening Center (TSC). Under TSC's supervision, the Terrorist Screening Database (TSDB) was created to compile the most thorough, accurate and current information possible about individuals known or suspected to be or to have been engaged in conduct advancing terrorism. This database consolidates the Federal Government's terrorism screening databases into a single integrated database and provides for its appropriate and lawful use in screening processes administered by Federal, State, local, and tribal authorities.

Authority: Pub. L. 108-408 Sec. 1061 et seq. (Dec. 17, 2004).

Dated: December 11, 2006.
Mark Robbins,
Executive Director.

[FR Doc. E6-21465 Filed 12-15-06; 8:45 am]

BILLING CODE 3195-W7-P